DEPARTMENT OF ENERGY

Federal Energy Regulatory Commission

Combined Notice of Filings

Take notice that the Commission has received the following Natural Gas Pipeline Rate and Refund Report filings:

Filings Instituting Proceedings

Docket Number: PR19-28-000.

Applicants: Columbia Gas of Maryland, Inc.

Description: Tariff filing per 284.123(b),(e)/: CMD Rates Effective 1/1/2019.

Filed Date: 1/8/19.

Accession Number: 201901085086.

Comments/Protests Due: 5 p.m. ET 1/29/19.

Docket Number: PR19-16-001.

Applicants: Lee 8 Storage Partnership.

Description: Tariff filing per 284.123(b),(e)+(g): Settlement Proposal to be effective 11/14/2018.

Filed Date: 1/11/19.

Accession Number: 201901115113.

Comments Due: 5 p.m. ET 2/1/19.

284.123(g) Protests Due: 5 p.m. ET 2/1/19.

Docket Numbers: RP19-357-001.

Applicants: Southern Star Central Gas Pipeline, Inc.

Description: Compliance filing: Compliance Filing Pursuant to Order on RP19-357 to be effective 12/1/2018.

Filed Date: 1/10/19.

Accession Number: 20190110-5032.

Comments Due: 5 p.m. ET 1/22/19.

Docket Numbers: RP19-554-000.

Applicants: Dominion Energy Carolina Gas Transmission.

Description: Compliance filing DECG—2018 Interruptible Revenue Sharing Report.

Filed Date: 1/10/19.

Accession Number: 20190110-5002.

Comments Due: 5 p.m. ET 1/22/19.

Docket Numbers: RP19-555-000.

Applicants: ETC Tiger Pipeline, LLC.

Description: § 4(d) Rate Filing: Assignment of Non-Conforming Agreement to be effective 1/11/2019.

Filed Date: 1/10/19.

Accession Number: 20190110-5129.

Comments Due: 5 p.m. ET 1/22/19.

Docket Numbers: RP19-556-000.

Applicants: NEXUS Gas Transmission, LLC.

Description: § 4(d) Rate Filing: Negotiated Rate—Columbia to Energy Plus 960084 to be effective 1/12/2019.

Filed Date: 1/11/19.

Accession Number: 20190111-5022.

Comments Due: 5 p.m. ET 1/23/19.

Docket Numbers: RP19-557-000.

Applicants: Gulf South Pipeline Company, LP.

Description: § 4(d) Rate Filing: Neg Rate Agmts (QEP 36601 to Aethon 50488 and SS Aethon 37657 from QEP) to be effective 1/11/2019.

Filed Date: 1/11/19.

Accession Number: 20190111-5052.

Comments Due: 5 p.m. ET 1/23/19.

Docket Numbers: RP19-558-000.

Applicants: Tennessee Gas Pipeline Company, L.L.C.

Description: § 4(d) Rate Filing: Volume No. 2—Mex Gas Supply, S.L. Negotiated Rate Nonconforming Agmt to be effective 12/1/2018.

Filed Date: 1/11/19.

Accession Number: 20190111-5163.

Comments Due: 5 p.m. ET 1/23/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2019.
Nathaniel J. Davis, Sr.,
Deputy Secretary.

[FR Doc. 2019-00538 Filed 1-30-19; 8:45 am]

BILLING CODE 6717-01-P